DEPARTMENT OF HEALTH AND HUMAN SERVICES

National Institutes of Health

Submission for OMB Review; 30-Day Comment Request Generic Clearance for National Cancer Institute (NCI) NCI Resources, Software and Data Sharing Forms (National Cancer Institute)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, submit comments in writing, or request more information on the proposed project, contact: Diane Kreinbrink, Office of Management Policy and Compliance, National Cancer Institute, 9609 Medical Center Drive, Rockville, Maryland, 208 or call non-toll-free number (240) 276-7283 or email your request, including your address to: diane.kreinbrink@nih.gov. Formal requests for additional plans and instruments must be requested in writing.

SUPPLEMENTARY INFORMATION: This proposed information collection was previously published in the Federal Register on December 20, 2021 (Vol. 86 FR 71901) and allowed 60 days for public comment. No public comments were received. The purpose of this notice is to allow an additional 30 days for public comment. The National Cancer Institute (NCI), National Institutes of Health (NIH), may not conduct or sponsor, and the respondent is not required to respond to, an information collection that has been extended, revised, or implemented on or after October 1, 1995, unless it displays a currently valid Office of Management and Budget (OMB) control number.

In compliance with Section 3507(a)(1)(D) of the Paperwork Reduction Act of 1995, NIH has submitted to OMB a request for review and approval of the information collection listed below.

Proposed Collection: Generic Clearance for NCI Resources, Software and Data Sharing Forms, 0925—NEW, Expiration Date xx/xx/xxxx, NCI, NIH.

Need and Use of Information Collection: In preparation for dissemination and sharing of data sets, forms requesting or applying for access, upload, share, and store data will be needed. The purpose of data sharing allows data generated from one research study to be used to answer questions beyond the original study. It reinforces open scientific inquiry, encourages diversity of analysis, supports studies on data collection methods and measurement, facilitates the education of new researchers, and enables the exploration of topics not envisioned by the initial investigators. Biomedical researchers and data scientists can use the NCI cloud resources, web interface, and computational workspaces to query, submit data, analyze, and visualize data. The forms would be used to register a scientist's research data, apply for data storage, and submit a request to access and use the data. In addition to these forms, forms related to metadata information (i.e., related to the collection of the research data; how the data was collected) would be collected for some research OMB approval is requested for 3 years. There are no costs to respondents other than their time. The total estimated annualized burden are 5,775 hours.

Estimated Annualized Burden Hours
Form name | Type of respondents | Number of respondents | Number of responses per respondent | Average burden per response (in hours) | Total annual burden hours
Request Data Access/Use
Data Access Request-Submitter | Individuals | 1,500 | 1 | 45/60 | 1,125
Institutional Certification | Individuals | 1,500 | 1 | 30/60 | 750
Data Submission/Storage
Data Submission/Storage Request | Individuals | 1,500 | 1 | 30/60 | 750
Institutional Certification | Individuals | 1,500 | 1 | 30/60 | 750
Request Access to/Use NCI Resources/Software
Data Resources | Individuals | 1,500 | 1 | 30/60 | 750
Project Renewal or Project Close-Out
Project Renewal or Project Close-out form | Individuals | 1,500 | 2 | 15/60 | 750
Institutional Certification | Individuals | 1,500 | 2 | 18/60 | 900
Totals |  | 10,500 | 13,500 |  | 5,775

Dated: March 3, 2022.
Diane Kreinbrink,
Project Clearance Liaison, National Cancer Institute, National Institutes of Health.

[FR Doc. 2022-04881 Filed 3-7-22; 8:45 am]

BILLING CODE 4140-01-P